DEPARTMENT OF THE INTERIOR

Fish and Wildlife Service

[FWS-R8-ES-2015-N177; FXES11120800000-156-FF08ECAR00]

Low-Effect Habitat Conservation Plan for Seven Covered Species, Los Angeles Department of Water and Power Land, Inyo and Mono Counties, California

AGENCY: Fish and Wildlife Service, Interior.

ACTION: Notice of availability; extending of public comment period.

SUMMARY: We, the U.S. Fish and Wildlife Service (Service), advise the public that we are extending the public review and comment period for the draft low effect habitat conservation plan (draft HCP) for the Los Angeles Department of Water and Power's operations, maintenance, and management activities on its land in Inyo and Mono Counties, California, and draft Environmental Action Statement/Low Effect Screening Form.

DATES: To ensure consideration of your comments in our final determination regarding whether to issue an incidental take permit, we must receive your written comments by December 4, 2015.

ADDRESSES: You may obtain copies of the draft HCP and Environmental Action Statement/Low Effect Screening Form online at http://www.fws.gov/carlsbad/HCPs/HCP_Docs.html. You may request copies of the documents by email, fax, or U.S. mail (see below). These documents are also available for public inspection by appointment during normal business hours at the office below. Please send your requests or written comments by any one of the following methods, and specify “LADWP HCP” in your request or comment.

Submitting Request for Documents/Comments: You may submit comments or requests for more information by any of the following methods:

Email: fw8cfwocomments@fws.gov. Include “LADWP HCP” in the subject line of your message. If you choose to submit comments via email, please ensure that the file size does not exceed 10 megabytes. Emails that exceed the maximum file size may not be properly transmitted to the Service.

Telephone: Kennon A. Corey, Palm Springs Fish and Wildlife Office, 760-322-2070.

Fax: Kennon A. Corey, Palm Springs Fish and Wildlife Office, 760-322-4648, Attn.: LADWP HCP.

U.S. Mail: Kennon A. Corey, Palm Springs Fish and Wildlife Office, Attn.: LADWP HCP, U.S. Fish and Wildlife Service, 777 East Tahquitz Canyon Way, Suite 208, Palm Springs, CA 92262.

In-Person Viewing or Pickup of Documents, or Delivery of Comments: Call 760-322-2070 to make an appointment during regular business hours at the above address.

Public Availability of Comments

Before including your address, phone number, email address, or other personal identifying information in your comment, you should be aware that your entire comment—including your personal identifying information—may be made publicly available at any time. While you can ask us in your comment to withhold your personal identifying information from public review, we cannot guarantee that we will be able to do so.

FOR FURTHER INFORMATION CONTACT: Kennon A. Corey, Assistant Field Supervisor, Palm Springs Fish and Wildlife Office; telephone 760-322-2070. If you use a telecommunications device for the deaf (TDD), please call the Federal Information Relay Service (FIRS) at 800-877-8339.

SUPPLEMENTARY INFORMATION:

Background

In the October 7, 2015, Federal Register (80 FR 60669), we announced the availability of the draft HCP and draft Environmental Action Statement/Low Effect Screening Form. We solicited comments from the public on these draft documents until November 6, 2015.

Since we announced the availability of the draft documents, we have received requests from the public to allow more time for public comment. Public involvement is an important part of the process in considering a draft HCP and application for an incidental take permit. Therefore, we are extending the comment period for an additional 30 days. All comments received by the date specified in DATES will be considered in making a final determination regarding whether to issue an incidental take permit.

Authority

We provide this notice under section 10 of the Act (16 U.S.C. 1531 et seq.) and NEPA regulations (40 CFR 1506.6).

Scott A. Sobiech,
Acting Field Supervisor, Carlsbad Fish and Wildlife Office, Carlsbad, California.

[FR Doc. 2015-28050 Filed 11-3-15; 8:45 am]

BILLING CODE 4333-15-P